DEPARTMENT OF TRANSPORTATION

Coast Guard

[USCG-2001-9380]

Towing Safety Advisory Committee

AGENCY: Coast Guard, DOT.

ACTION: Notice of public meeting.

SUMMARY: The Towing Safety Advisory Committee (TSAC) will meet to consider draft comments from the Fire Suppression and Voyage Planning Working Group. The comments, when approved by the Committee, will be forwarded to the docket for the Coast Guard's rulemaking on Fire Suppression and Voyage Planning for Towing Vessels. The meeting is open to the public.

DATES: The Committee will meet on Monday, April 30, 2001 from 2 p.m. to 3:30 p.m. This meeting may close early if all business is finished. Requests to make oral presentations should reach the Coast Guard on or before April 26, 2001.

ADDRESSES: TSAC will meet in room 1303 at Coast Guard Headquarters; 2100 Second Street, SW., Washington, DC 20593-0001. Send written materials and requests to make oral presentations to Mr. Gerald P. Miante, Commandant (G-MSO-1); Room 1210, U.S. Coast Guard Headquarters; 2100 Second Street, SW., Washington, DC 20593-0001. This notice is available on the Internet at http://dms.dot.gov.

FOR FURTHER INFORMATION CONTACT: Mr. Gerald P. Miante, Assistant Executive Director, TSAC, telephone 202-267-0229, fax 202-267-4570, or e-mail at: gmiante@comdt.uscg.mil.

SUPPLEMENTARY INFORMATION: Notice of this meeting is given under the Federal Advisory Committee Act, 5 U.S.C. App. 2.

Agenda of Meeting

The agenda includes only TSAC's consideration of and voting on the recommended comments of its Fire Suppression and Voyage Planning Working Group. A Supplemental Notice of Proposed Rulemaking was published in the Federal Register on Wednesday, November 8, 2000 (FR 65 66941), and an Extension of Comment Period was published on Friday, February 23, 2001 (FR 66 11241). The Docket Number for this rulemaking is USCG-2001-6931.

Procedural

This meeting is open to the public. Please note that the meeting may close early if all business is finished. At the Chair's discretion, members of the public may make oral presentations during the meeting. If you would like to make an oral presentation at the meeting, please notify the Assistant Executive Director no later than April 26, 2001.

Information on Services for Individuals With Disabilities

For information on facilities or services for individuals with disabilities or to request special assistance at the meeting, contact the Assistant Executive Director as soon as possible.

Dated: April 10, 2001.
Joseph J. Angelo,
Director of Standards.

[FR Doc. 01-9383 Filed 4-13-01; 8:45 am]

BILLING CODE 4910-15-U